DEPARTMENT OF COMMERCE

National Oceanic and Atmospheric Administration

RIN 0648-XG449

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet September 18, 2018 through September 21, 2018.

DATES: The meetings will be held on Tuesday, September 18, 2018 through Friday, September 21, 2018, from 9 a.m. to 5 p.m.

ADDRESSES: The meetings will be held at the Alaska Fishery Science Center in the Traynor Room 2076 and NMML Room 2079, 7600 Sand Point Way NE, Building 4, Seattle, WA 98115.

Council address: North Pacific Fishery Management Council, 605 W 4th Ave., Suite 306, Anchorage, AK 99501-2252; telephone: (907) 271-2809.

FOR FURTHER INFORMATION CONTACT: Diana Stram or Jim Armstrong, Council staff; telephone: (907) 271-2809.

SUPPLEMENTARY INFORMATION:

Agenda

Tuesday, September 18, 2018 to Friday, September 21, 2018

The Plan Teams will review the preliminary stock assessments for Groundfish and receive reports including but not limited to: 2018 Survey Estimates, CIE Reviews for GOA Pollock and BSAI Flatfish, and the Economic Stock Assessment and Fishery Evaluation (SAFE).

The Agenda is subject to change, and the latest version will be posted at http://www.npfmc.org prior to the meeting, along with meeting materials.

Public Comment

Public comment letters will be accepted and should be submitted either electronically to Jim Armstrong, Council staff: james.armstrong@noaa.gov or through the mail: North Pacific Fishery Management Council, 605 W 4th Ave., Suite 306, Anchorage, AK 99501-2252. In-person oral public testimony will be accepted at the discretion of the chairs.

Special Accommodations

These meetings are physically accessible to people with disabilities. Requests for sign language interpretation or other auxiliary aids should be directed to Shannon Gleason at (907) 271-2809 at least 7 working days prior to the meeting date.

Dated: August 28, 2018.
Tracey L. Thompson,
Acting Deputy Director, Office of Sustainable Fisheries, National Marine Fisheries Service.

[FR Doc. 2018-18977 Filed 8-30-18; 8:45 am]

BILLING CODE 3510-22-P